DEPARTMENT OF ENERGY

Federal Energy Regulatory Commission

Notice of FERC Staff Attendance at Southwest Power Pool Independent Coordinator of Transmission (ICT) Transmission Summit Meeting

July 22, 2008.

The Federal Energy Regulatory Commission hereby gives notice that members of its staff may attend the meeting noted below. Their attendance is part of the Commission's ongoing outreach efforts.

ICT Transmission Summit

July 29, 2008 ( 8 a.m.-3 p.m. CST), Astor Crowne Plaza Hotel, 729 Canal Street,New Orleans, LA 70130.

The discussions may address matters at issue in the following proceedings:

Docket No. EL07-52 | Louisiana Public Service Commission v. Entergy Services, Inc.
Docket No. OA07-32 | Entergy Services, Inc.
Docket No. ER05-1065 | Entergy Services, Inc.
Docket No. EL00-66 | Louisiana Public Service Commission v. Entergy
Docket No. EL95-33 | Louisiana Public Service Commission v. Entergy
Docket No. ER00-2854 | Louisiana Public Service Commission v. Entergy
Docket No. EL05-15 | Arkansas Electric Cooperative, Corp. v. Entergy Arkansas, Inc.
Docket No. ER08-845 | Entergy Services, Inc.
Docket No. ER08-844 | Entergy Services, Inc.
Docket No. EL01-88 | Louisiana Public Service Commission v. Entergy
Docket No. ER08-885 | Entergy Gulf States Louisiana, LLC
Docket No. ER03-583 | Entergy Services, Inc.
Docket No. ER08-879 | Entergy Services, Inc.
Docket No. ER01-2214 | Entergy Services, Inc.
Docket No. ER07-628 | Entergy Arkansas, Inc.
Docket No. ER07-629 | Entergy Arkansas, Inc.
Docket No. ER07-630 | Entergy Arkansas, Inc.
Docket No. EL08-59 | ConocoPhillips v. Entergy Services, Inc.
Docket No. EL08-60 | Union Electric v. Entergy Services, Inc.
Docket No. ER08-750 | Entergy Services, Inc.
Docket No. ER08-751 | Entergy Services, Inc.
Docket No. ER08-752 | Entergy Services, Inc.
Docket No. OA08-92 | Entergy Services, Inc.
Docket No. OA08-75 | Entergy Services, Inc.
Docket No. ER08-572 | Entergy Services, Inc.
Docket No. ER08-927 | Entergy Services, Inc.
Docket No. OA08-59 | Entergy Services, Inc.
Docket No. ER07-1252 | Entergy Services, Inc.
Docket No. EL03-230 | ExxonMobil v. Entergy.
Docket No. ER08-774 | Entergy Services, Inc.
Docket No. ER08-1006 | Entergy Services, Inc.
Docket No. ER08-1078 | Entergy Services, Inc.
Docket No. ER08-1079 | Entergy Services, Inc.
Docket No. ER08-1040 | Entergy Services, Inc.
Docket No. ER08-1041 | Entergy Services, Inc.
Docket No. ER08-1056 | Entergy Services, Inc.
Docket No. ER08-1057 | Entergy Services, Inc.
Docket No. ER08-1075 | Entergy Services, Inc.
Docket No. ER08-682 | Entergy Services. Inc.
Docket No. EL08-72 | NRG Energy, Inc. v. Entergy Services, Inc.

These meetings are open to the public.

For more information, contact Doug Roe, Office of Energy Market Regulation, Federal Energy Regulatory Commission at (202) 502-6566 or douglas.roe@ferc.gov.

Kimberly D. Bose,
Secretary.

[FR Doc. E8-17282 Filed 7-28-08; 8:45 am]

BILLING CODE 6717-01-P